DEPARTMENT OF TRANSPORTATION

Federal Aviation Administration

[Policy Statement No. ANM-01-115-32]

Use of Industry Standards In Seat Certification

AGENCY: Federal Aviation Administration (FAA), DOT.

ACTION: Notice of final policy statement.

SUMMARY: The Federal Aviation Administration (FAA) announces the availability of the final policy for the use of industry standards to address certain certification issues for transport airplane seats. This policy is specifically relevant to certification of seats with an in-arm video system feature.

FOR FURTHER INFORMATION CONTACT: Jeff Gardlin, Federal Aviation Administration, Transport Airplane Directorate, Transport Standards Staff, Airframe/Cabin Safety Branch, ANM-115, 1601 Lind Avenue SW., Renton, WA 98055-4056; telephone (425) 227-2136; fax (425) 227-1320; e-mail: jeff.gardlin@faa.gov.

SUPPLEMENTARY INFORMATION: A notice of proposed policy statement no. ANM-01-115-32, was published June 25, 2001 (66 FR 33736). No comments were received. The final policy is issued with editorial changes only.

The final policy is available on the Internet at the following address: http://www.faa.gov/certification/aircraft/anminfo/finalpaper.cfm. If you do not have access to the Internet, you can obtain a copy of the final policy by contacting the person listed under FOR FURTHER INFORMATION CONTACT.

Issued in Renton, Washington, on August 28, 2002.
Ali Bahrami,
Acting Manager, Transport Airplane Directorate, Aircraft Certification Service.

[FR Doc. 02-23709 Filed 9-17-02; 8:45 am]

BILLING CODE 4910-13-M